ENVIRONMENTAL PROTECTION AGENCY

[EPA-R03-OAR-2021-0238; FRL-10022-18-Region 3]

Access to Confidential Business Information by Contractor SafeGuard Document Destruction Inc.

AGENCY: Environmental Protection Agency (EPA).

ACTION: Notice of contractor access to confidential business information.

SUMMARY: The Environmental Protection Agency (EPA) has authorized SafeGuard Document Destruction Inc. of Perrineville, NJ to access information which has been submitted to EPA under the environmental statutes administered by the Agency at its Region 3 offices. Some of the information may be claimed or determined to be confidential business information.

DATES: Comments must be received on or before April 26, 2021. Access to the confidential data began on or about July 7, 2020.

ADDRESSES: You may submit your comments by one of the following methods:

1. Federal eRulemaking Portal: https://www.regulations.gov. Follow the on-line instructions for submitting comments.

2. Email: Schwartz.Kathy@epa.gov

Instructions: Direct your comments to Docket ID No. EPA-R03-OAR-2021-0238. EPA's policy is that all comments received will be included in the public docket without change and may be available online at https://www.regulations.gov, including any personal information provided, unless the comment includes information claimed to be confidential business information (CBI) or other information whose disclosure is restricted by statute. Do not submit information that you consider to be CBI or otherwise protected through https://www.regulations.gov, or email. The federal website, https://www.regulations.gov, is an “anonymous access” system, which means EPA will not know your identity or contact information unless you provide it in the body of your comment. If you send an email comment directly to EPA without going through https://www.regulations.gov, your email address will be automatically captured and included as part of the comment that is placed in the public docket and made available on the internet. If you submit an electronic comment, EPA recommends that you include your name and other contact information in the body of your comment. If EPA cannot read your comment due to technical difficulties, and cannot contact you for clarification, EPA may not be able to consider your comment. Electronic files should avoid the use of special characters, any form of encryption, and be free of any defects or viruses. EPA encourages electronic submittals, but if you are unable to submit electronically, please reach out to the EPA contact person listed in the notice for assistance. If you need assistance in a language other than English, or you are a person with disabilities who needs a reasonable accommodation at no cost to you, please reach out to the EPA contact person by email or telephone.

FOR FURTHER INFORMATION CONTACT: Kathy Schwartz, (215) 814-5332; email address: Schwartz.Kathy@epa.gov; address: EPA Region 3, Mission Support Division (Mail Code 3MD20), 1650 Arch Street, Philadelphia, PA 19103.

SUPPLEMENTARY INFORMATION:

I. General Information

A. Does this action apply to me?

This action is directed to the general public. This action may, however, be of interest to anyone who submitted what may be determined to be CBI to EPA Region 3. Since other entities may also be interested, the Agency has not attempted to describe all the specific entities that may be affected by this action.

B. How can I get copies of this document and other related information?

All documents in the docket are listed in the https://www.regulations.gov index, under docket identification number EPA-R3-OAR-2021-0238. Although listed in the index, some information might not be publicly available, e.g., CBI or other information whose disclosure is restricted by statute. Publicly available docket materials are accessible electronically through https://www.regulations.gov.

II. What action is the agency taking?

EPA Region 3 is shredding its records that are no longer required to be retained or stored under the Federal Records Act or otherwise required to be retained. EPA is performing this shredding using the support of a contractor. Under EPA contract GS-03F-065BA (the contract), SafeGuard Document Destruction Inc. (SDD) of 800 Rike Drive, Suite A, Perrineville, NJ 08535, is responsible for providing locked bins and for shredding the hard copy records which the agency has identified for disposal at two of its regional offices—regional headquarters at 1650 Arch Street, Philadelphia, PA 19103 and the Chesapeake Bay Program Office at 410 Severn Avenue, Suite 109, Annapolis, MD 21403. Records that contain CBI may be included among those being shredded.

EPA will permit SDD personnel to have access to locked disposal bins which contain information submitted to EPA under the statutes administered by EPA Region 3. Some of the information may be claimed or determined to be CBI. In accordance with 40 CFR 2.301(h)(2)(i) (Clean Air Act (CAA)), and any provisions from 40 CFR 2.302 through 2.310 incorporating 40 CFR 2.301(h)(2)(i) (Clean Water Act (CWA), Safe Drinking Water Act (SDWA), Resource Conservation and Recovery Act (RCRA), Comprehensive Environmental Response, Compensation, and Liability Act (CERCLA)), 40 CFR 2.306(j) (Toxic Substances Control Act (TSCA)), 40 CFR 2.307(h)(3) (Federal Insecticide, Fungicide, and Rodenticide Act (FIFRA)), 40 CFR 2.308(i) (Federal Food, Drug and Cosmetic Act (FDCA)), 40 CFR 350.23(b) (Emergency Planning and Community Right-to-Know Act (EPCRA)), EPA has determined that SDD requires access to locked disposal bins which may contain CBI submitted to EPA, to perform successfully the duties required to carry out the contract.

Among the procedures established by EPA's confidentiality regulations for granting access to CBI is prior notification to the submitters of CBI that SDD may have access to this information. See 40 CFR 2.301(h)(2)(iii) for information submitted under the CAA, corresponding provisions of 40 CFR 2.302 through 2.311 for information submitted under the CWA, SDWA, RCRA, TSCA, FIFRA, FDCA, CERCLA, and 40 CFR 350.23 for EPCRA. This notification is intended to fulfill that requirement. EPA Region 3 has permitted SDD personnel access to this information prior to publishing this document. All potential access to CBI under the contract has and will continue to occur at the two EPA Region 3 offices located in Philadelphia and Annapolis. EPA Region 3 is implementing the following procedures to ensure the security of the files identified for disposal and the information therein. First, EPA personnel deposit records that are ready for disposal into locked bins located at either of the two EPA Region 3 offices. Next, during normal business hours, SDD travels to the appropriate EPA Region 3 office building with its shredding apparatus and is escorted into the building by EPA personnel to retrieve the locked bins. Accompanied by EPA personnel, SDD conducts onsite shredding of the contents of the bins immediately after unlocking and emptying them into the shredding apparatus. The contract prohibits SDD personnel from viewing, inspecting, examining, or copying the materials identified for shredding and requires SDD to safeguard such information. Additionally, SDD is prohibited from transporting or shredding any records offsite.

SDD's potential access to CBI under the contract began on or about July 7, 2020 and will expire on October 31, 2021. If the contract is further extended, this access will also continue for the duration of the extension without further notice.

Catharine McManus,
Mission Support Division Director, Region 3.

[FR Doc. 2021-06932 Filed 4-2-21; 8:45 am]

BILLING CODE 6560-50-P